DEPARTMENT OF EDUCATION

[CFDA No. 84.341A]

Community Technology Centers Program Grant; Notice Inviting Project Applications for One-Year Awards for Fiscal Year (FY) 2001

Note to Applicants: This notice is a complete application package. Together with the statute authorizing these grants and the Education Department General Administrative Regulations (EDGAR), this notice contains all of the information, application forms, and instructions needed to apply for a grant under this competition. These grants are authorized by Title III, section 3122 of the Elementary and Secondary Education Act of 1965 (ESEA), as amended by the Improving America's Schools Act of 1994 (20 U.S.C. 6832).

Purpose of Program: The purpose of the Community Technology Centers program is to promote the use of technology in education through the development of model programs that demonstrate the educational effectiveness of technology in low-income or economically-distressed urban and rural communities.

Eligible Applicants: State and local educational agencies, tribal governments, colleges, institutions of higher education, libraries, museums and other public and private nonprofit or for-profit agencies and organizations are eligible to receive grants under this program. A group of eligible entities is also eligible to receive a grant if the group follows the procedures for group applications in 34 CFR 75.127-129 of EDGAR.

Deadline for Transmittal of Applications: July 16, 2001.

Deadline for Intergovernmental Review: August 28, 2001.

Estimated Available Funds: $32,275,750.

Cost Share Requirement: Recipients of the one-year grants under the program must share in the cost of the activities assisted under the grant. Grant recipients must make available non-Federal contributions in cash or in kind, as authorized under section 3122(d) of ESEA, of 30 percent of the cost of activities assisted under the grant.

Estimated Range of Awards: $75,000—$300,000.

Estimated Average Size of Awards: $180,000.

Estimated Number of Awards: 170 to 190.

Project Period: Not to exceed 12 months.

Note: The Department of Education is not bound by any estimates in this notice.

Applicable Regulations: The Education Department General Administrative Regulations (EDGAR) in 34 CFR parts 75, 77, 79, 80, 81, 82, 85, 86, 97, 98 and 99.

SUPPLEMENTARY INFORMATION: A recent GAO report (Telecommunications: Characteristics and Choices Of Internet Users, February, 2001) and a series of U.S. Department of Commerce studies (Falling Through the Net, 1995, 1999, 2000) on Americans' access and use of technology show that although more Americans now own computers, minority and low-income households in inner cities and rural communities are still far less likely to have computers or online access to the Internet and know how to use advanced technology than users of more affluent households. Although the numbers of Americans who have access to computers and know how to use the Internet are increasing, the recent reports show that the “digital divide” persists for low-income, minorities and non-English speaking children and adults. In response, community technology centers have been established to enhance educational and employment opportunities by making computers and informational technology more accessible and to provide related learning services to children and adults in low-income, urban and rural communities.

Description of Program

The Community Technology Centers program for fiscal year 2001 provides support for access to computers and technology and technology-based educational learning activities for adults and children in low-income communities who otherwise would lack that access to computers and informational technology. The program is authorized under section 3122 of ESEA. Under section 3122, the Secretary may carry out a variety of activities that promote the use of technology in education. These activities include the development of model programs, such as community technology centers, that demonstrate the educational effectiveness of technology in urban and rural areas and economically distressed communities. Under the Community Technology Centers program, the Secretary will award one-year grants to establish or expand community technology centers to provide technology-based learning services for individuals in economically distressed urban and rural communities.

Applicants under this program are encouraged to provide educational services and programming activities around access to and use of computers and information technology for local community residents, in areas such as:

1. Adult Education and Family Literacy, including GED, English language instruction, and adult basic education classes or programs, introduction to computers, intergenerational activities, and lifelong learning opportunities through technology and the Internet.

2. After-school Activities for children of all ages to use software that provides homework help and academic enrichment, exploration of the Internet, and multimedia activities, including web page design and creation.

3. Career Development and Job Preparation, such as computer skills training (basic and advanced), resume writing workshops, and access to databases of employment opportunities, career information, and other online materials.

4. Small Business Activities, such as computer-based training for basic entrepreneurial skills and electronic commerce, as well as access to information on business start-up programs.

Although a single eligible applicant may apply for a grant, the Secretary encourages applications from partnerships that include local community organizations or agencies. As indicated in the discussion of cost sharing above, recipients of the one-year grants must share in the cost of activities assisted under the grants through non-Federal contributions. The non-Federal share of activities may be in the form of cash or in-kind contributions, fairly valued.

Invitational Priorities

The Secretary is particularly interested in applications that address one or all of the invitational priorities in the next two paragraphs. (34 CFR 75.105(c)(1))

Invitational Priority 1—Projects that demonstrate substantial community support of, and commitment to, the community technology access center or centers with evidence of community assets that the applicant has leveraged or plans to leverage.

Invitational Priority 2—Projects that exemplify effective strategies in overcoming participant retention barriers (such as special needs, language proficiency, childcare needs and staff development) and best practices for instructing with technology (such as computer instruction related to school or work activities, encourages collaboration and develops complex thinking skills) to improve educational and employment outcomes for low-income youth and adults.

Invitational Priority 3—Projects that use the program funds to operate a community technology access center or centers in an Empowerment Zone, including a Supplemental Empowerment Zone, in an Enterprise Community designated by the United States Department of Housing and Urban Development or the United States Department of Agriculture, or in an economically-distressed rural community.

Note: A list of areas that have been designated as Empowerment Zones and Enterprise Communities is published at http://www5.hud.gov/urban/tour/statestour.asp.

Definition:

In addition to definitions in the statute and EDGAR, the following definition applies:

Economically distressed means a county or equivalent division of local government of a State in which, according to the most recent available data from the United States Bureau of the Census, a significant percentage of the residents have an annual income that is at or below the poverty level.

Selection Criteria

(1) The Secretary uses the following selection criteria to evaluate applications for grants under this competition. In all instances where the word “project” appears in the selection criteria, the reference to a community technology center should be made.

(2) The maximum composite score for all of these criteria is 105 points.

(3) The maximum score for each criterion and factor is indicated in parentheses.

(a) Meeting the purposes of the authorizing statute. (10 points) The Secretary considers how well the project meets the purposes of section 3122(a) and (c)(10) of ESEA by developing a model project that demonstrates the educational effectiveness of technology and expands access to information technology and related services in an economically distressed urban or rural community.

(b) Need for project. (30 points) (1) The Secretary considers the need for the proposed project.

(2) In determining the need for the proposed project, the Secretary considers the following factors:

(i) The magnitude of the need for the services to be provided or the activities to be carried out by the proposed project. (15 points)

(ii) The extent to which the proposed project will focus on serving or otherwise addressing the needs of disadvantaged individuals. (15 points)

(c) Quality of project design. (20 points) (1) The Secretary considers the quality of the design of the proposed project.

(2) In determining the quality of the design of the proposed project, the Secretary considers the following factors:

(i) The extent to which the goals, objectives, and outcomes to be achieved by the proposed project are clearly specified and measurable. (10 points)

(ii) The extent to which the proposed project will establish linkages with other appropriate agencies and organizations providing services to the target population. (10 points)

(d) Quality of project personnel. (10 points) (1) The Secretary considers the quality of the personnel who will carry out the proposed project.

(2) In determining the quality of project personnel, the Secretary considers the extent to which the applicant encourages applications for employment from persons who are members of groups that have traditionally been underrepresented based on race, color, national origin, gender, age, or disability.

(3) In addition, the Secretary considers the qualifications, including relevant training and experience, of the project director or principal investigator.

(e) Quality of the management plan. (10 points) (1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks. (5 points)

(ii) How the applicant will ensure that a diversity of perspectives are brought to bear in the operation of the proposed project, including those of parents, teachers, the business community, a variety of disciplinary and professional fields, recipients or beneficiaries of services, or others, as appropriate. (5 points)

(f) Adequacy of resources. (15 points) (1) The Secretary considers the adequacy of resources for the proposed project.

(2) In determining the adequacy of resources for the proposed project, the Secretary considers the following factors:

(i) The adequacy of support, including facilities, equipment, supplies, and other resources, from the applicant organization or the lead applicant organization. (5 points)

(ii) The extent to which the costs are reasonable in relation to the number of persons to be served and to the anticipated results and benefits. (5 points)

(iii) The potential for continued support of the project after Federal funding ends, including, as appropriate, the demonstrated commitment of appropriate entities to such support. (5 points)

(g) Quality of project evaluation. (10 points) (1) The Secretary considers the quality of the evaluation to be conducted of the proposed project.

(2) In determining the quality of the evaluation, the Secretary considers the following factors:

(i) The extent to which the methods of evaluation include the use of objective performance measures that are clearly related to the intended outcomes of the project and will produce quantitative and qualitative data to the extent possible. (5 points)

(ii) The extent to which the methods of evaluation will provide performance feedback and permit periodic assessment of progress toward achieving intended outcomes. (5 points)

Note: In accordance with EDGAR 34 CFR 75.590, 80.40, and 80.50. Grant recipients must submit a final performance report as a condition of the grant that provides the most current performance and financial expenditure information on project activities, including the recipient's progress in achieving the objectives in its approved application.

Intergovernmental Review of Federal Programs

This program is subject to the requirements of Executive Order 12372 (Intergovernmental Review of Federal Programs) and the regulations in 34 CFR part 79.

The objective of the Executive order is to foster an intergovernmental partnership by relying on State and local processes for State and local government coordination and review of proposed Federal financial assistance.

Applicants must contact the appropriate State Single Point of Contact (SPOC) to find out about, and to comply with, the State's process under Executive Order 12372. Applicants proposing to perform activities in more than one State should immediately contact the SPOC for each of those States and follow the procedures established in each State under the Executive order. If you want to know the name and address of any SPOC, you may view the latest SPOC list on the OMB Web site at the following address: http://www.whitehouse.gov/omb/grants/spoc/html.

In States that have not established a process or chosen a program for review, State, areawide, regional, and local entities may submit comments directly to the Department.

Any State Process Recommendation and other comments submitted by a State Single Point of Contact and any comments from State, areawide, regional, and local entities must be mailed or hand-delivered by the date indicated in this notice to the following address: The Secretary, E.O. 12372-CFDA #84.341A, U.S. Department of Education, Room 7E200, 400 Maryland Avenue, SW., Washington, DC 20202-0125.

Proof of mailing will be determined on the same basis as applications (see 34 CFR 75.102). Recommendations or comments may be hand-delivered until 4:30 p.m. (Washington, D.C. time) on the date indicated in this notice.

Note: Please note that the above address is not the same address as the one to which the applicant submits its completed application. Do not send applications to the above address.

Instructions for Transmittal of Applications

Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

The U.S. Department of Education is expanding its pilot project of electronic submission of applications to include certain formula grant programs, as well as additional discretionary grant competitions. The Community Technology Centers Program, CFDA 84.341A, is one of the programs included in the pilot project. If you are an applicant under the Community Technology Centers Program, you may submit your application to us in either electronic or paper format.

The pilot project involves the use of the Electronic Grant Application System (e-APPLICATION, formerly e-GAPS) portion of the Grant Administration and Payment System (GAPS). We request your participation in this pilot project. We shall continue to evaluate its success and solicit suggestions for improvement.

If you participate in this e-APPLICATION pilot, please note the following:

• Your participation is voluntary.

• You will not receive any additional point value or penalty because you submit a grant application in electronic or paper format.

• You can submit all documents electronically, including the Application for Federal Assistance (ED 424), Budget Information—Non-Construction Programs (ED 524), and all necessary assurances and certifications.

• Fax a signed copy of the Application for Federal Assistance (ED 424) after following these steps:

1. Print ED 424 from the e-APPLICATION system.

2. Make sure that the institution's Authorizing Representative signs this form.

3. Before faxing this form, submit your electronic application via the e-APPLICATION system. You will receive an automatic acknowledgement, which will include a PR/Award number (an identifying number unique to your application).

4. Place the PR/Award number in the upper right hand corner of ED 424.

5. Fax ED 424 to the Application Control Center within three working days of submitting your electronic application. We will indicate a fax number in e-APPLICATION at the time of your submission.

• We may request that you give us original signatures on all other forms at a later date.

You may access the electronic grant application for the Community Technology Centers Program at: http://e-grants.ed.gov

We have included additional information about the e-APPLICATION pilot project (see Parity Guidelines between Paper and Electronic Applications) elsewhere in this notice.

Transmittal of Applications

If an applicant wants to apply for a grant, the applicant must—

(a) If You Submit Your Application Electronically:

You must submit your grant application through the Internet using the software provided on the e-Grants Web site (http://e-grants.ed.gov) by 4:30 p.m. (Washington, DC time) on the deadline date. The regular hours of operation of the e-Grants Web site are 6:00 a.m. until 12:00 midnight (Washington, DC time) Monday-Friday and 6:00 a.m. until 7:00 p.m. Saturdays. The system is unavailable on the second Saturday of every month, Sundays, and Federal holidays. Please note that on Wednesdays the Web site is closed for maintenance at 7:00 p.m. (Washington, DC time). If you submit your application through the Internet via the e-Grants Web site, you will receive an automatic acknowledgment when we receive your application.

(b) If You Send Your Application by Mail

You must mail the original and two copies of the application on or before the deadline date to: U.S. Department of Education, Application Control Center, Attention: CFDA #84.341A, Washington, DC 20202-4725.

You must show one of the following as proof of mailing:

(1) A legibly dated U.S. Postal Service post mark.

(2) A legible mail receipt with the date of mailing stamped by the U.S. Postal Service.

(3) A dated shipping label, invoice, or receipt from a commercial carrier.

(4) Any other proof of mailing acceptable to the Secretary.

If you mail an application through the U.S. Postal Service, we do not accept either of the following as proof of mailing:

(1) A private metered post mark.

(2) A mail receipt that is not dated by the U.S. Postal Service.

(c) If You Deliver Your Application by Hand

You or your courier must hand deliver the original and two copies of the application by 4:30 p.m. (Washington, DC time) on or before the deadline date to: U.S. Department of Education, Application Control Center, Attention: CFDA # 84.341A, Room 3633, Regional Office Building 3, 7th and D Streets, SW., Washington, DC.

The Application Control Center accepts application deliveries daily between 8:00 a.m. and 4:30 p.m. (Washington, DC time), except Saturdays, Sundays, and Federal holidays. The Center accepts application deliveries through the D Street entrance only. A person delivering an application must show identification to enter the building.

Note: (1) The U.S. Postal Service does not uniformly provide a dated postmark. Before relying on this method, you should check with your local post office.

(2) If you send your application by mail or deliver it by hand or by a courier service, the Application Control Center will mail a Grant Application Receipt Acknowledgment to you. If you do not receive the notification of application receipt within 15 days from the date of mailing the application, you should call the U.S. Department of Education Application Control Center at (202) 708-9493.

(3) You must indicate on the envelope and—if not provided by the Department—in Item 3 of the Application for Federal Education Assistance (ED 424; revised November 12, 1999) the CFDA number—and suffix letter, if any—of the competition under which you are submitting your application.

Parity Guidelines Between Paper & Electronic Applications:

The Department of Education is expanding the pilot project, which began in FY 2000, that allows applicants to use an Internet-based electronic system for submitting applications. This competition is among those that have an electronic submission option available to all applicants. The system, called e-APPLICATION, formerly e-GAPS (Electronic Grant Application Package System), allows an applicant to submit a grant application to us electronically, using a current version of the applicant's Internet browser. To see e-APPLICATION visit the following address: http://e-grants.ed.gov.

In an effort to ensure parity and a similar look between applications transmitted electronically and applications submitted in conventional paper form, e-APPLICATION has an impact on all applicants under this competition.

Users of e-APPLICATION, a data driven system, will be entering data on-line while completing their applications. This will be more interactive than just e-mailing a soft copy of a grant application to us. If you participate in this voluntary pilot project by submitting an application electronically, the data you enter online will go into a database and ultimately will be accessible in electronic form to our reviewers.

This pilot project is another step in the Department's transition to an electronic grant award process. In addition to e-APPLICATION, the Department is conducting a limited pilot of electronic peer review (e-READER) and electronic annual performance reporting (e-REPORTS). To help ensure parity and a similar look between electronic and paper copies of grant applications, we are asking each applicant that submits a paper application to adhere to the following guidelines:

• Submit your application on 8½″ by 11″ paper.

• Leave a 1-inch margin on all sides.

• Use consistent font throughout your document. You may also use boldface type, underlining, and italics. However, please do not use colored text.

• Please use black and white, also, for illustrations, including charts, tables, graphs and pictures.

• For the narrative component, your application should consist of the number and text of each selection criterion followed by the narrative. The text of the selection criterion, if included, does not count against any page limitation.

• Place a page number at the bottom right of each page beginning with 1; and number your pages consecutively throughout your document.

Note: An applicant who is submitting a paper copy of their application may submit information on photostatic copies of the application, budget forms, assurances, and certifications as printed in this notice in the Federal Register. However, the application form, assurances, and certifications must each have an original signature. Applicants must submit ONE original signed application, including ink signatures on all forms and assurances, and TWO copies of the application, one bound and one unbound copy suitable for photocopying. Please mark each application as “original” or “copy”. To aid with the review of applications, the Department encourages applicants to submit two additional paper copies of the application. The Department will not penalize applicants who do not provide additional copies. No grant may be awarded unless a completed application form, including the signed assurances and certifications, has been received. (For applicants who submit electronically, see separate instructions under “Instructions for Transmittal of Applications” above.)

Application Instructions and Forms

The appendix to this notice contains the following forms and instructions, a statement regarding estimated public reporting burden, a notice to applicants regarding compliance with section 427 of the General Education Provisions Act (GEPA), various assurances and certifications, and a checklist for applicants.

a. Instructions for the Application Narrative.

b. Estimated Public Reporting Burden Statement.

c. Notice to All Applicants (compliance with section 427 of GEPA).

d. Checklist for Applicants.

e. Application for Federal Assistance (ED 424, Exp. 06/30/2001) and instructions.

f. Budget Information-Non-construction Programs (ED Form No. 524) and instructions.

g. Assurances-Non-Construction Programs (Standard Form 424B) and instructions.

h. Certifications Regarding Lobbying; Debarment, Suspension, and Other Responsibility Matters; and Drug-Free Workplace Requirements (ED 80-0013) and instructions.

i. Certifications regarding Debarment, Suspension, Ineligibility and Voluntary Exclusion-Lower Tier Covered Transactions (ED 80-0014, 9/90) and instructions. (NOTE: ED 80-0014 is intended for the use of grantees and should not be transmitted to the Department.)

j. Disclosure of Lobbying Activities (Standard Form LLL) (if applicable) and instructions.

FOR FURTHER INFORMATION CONTACT: Mary LeGwin, 202/260-2499 or April Blunt, 202/690-5614, U.S. Department of Education, Community Technology Centers Program, Office of Vocational and Adult Education, 330 C Street, SW., Room 4414, Switzer Building, Washington, DC 20202-7240. E-mail: ctc@ed.gov. Individuals who use a telecommunications device for the deaf (TDD) may call the Federal Information Relay Service (FIRS) at 1-800-877-8339 between 8 a.m. and 8 p.m., Eastern time, Monday through Friday.

For Application Package Contact: Education Publications Center (ED Pubs), P.O. Box 1398, Jessup, MD 20794-1398. Telephone (toll free): 1-877-433-7827. FAX: (301) 470-1244. Individuals who use a telecommunications device for the deaf (TDD) may call (toll free): 1-877-576-7734. You may also contact ED Pubs via its Web site (http://www.ed.gov/pubs/edpubs.html) or its E-mail address (edpubs@inet.ed.gov).

Individuals with disabilities may obtain this notice in an alternative format (e.g., Braille, large print, audiotape, or computer diskette) on request to the contact person listed in the preceding paragraph. Please note, however, that the Department is not able to reproduce in an alternative format the standard forms included in the notice.

Electronic Access to This Document

You may view this document, as well as all other Department of Education documents published in the Federal Register, in text or Adobe Portable Document Format (PDF) on the Internet at the following site: www.ed.gov/legislation/FedRegister

To use PDF you must have Adobe Acrobat Reader, which is available free at the previous site. If you have questions about using the PDF, call the U.S. Government Printing Office (GPO) toll free, at 1-888-293-6498 or in the Washington, DC area at (202) 512-1530.

You may also view this document in text at the following site: www.ed.gov/offices/OVAE/CTC

Note: The official version of this document is the document published in the Federal Register. Free Internet access to the official edition of the Federal Register and the Code of Federal Regulations is available on GPO Access at: http://www.access.gpo.gov/nara/index.html.

Program Authority: 20 U.S.C. 6832.

Dated: May 24, 2001.
Robert Muller,
Deputy Assistant Secretary for Vocational and Adult Education.

APPENDIX

Instructions for the Application Narrative

The narrative is the section of the application where the selection criteria used by reviewers in evaluating the application are addressed. The narrative must encompass each function or activity for which funds are being requested. Before preparing the Application Narrative, an applicant should read carefully the description of the program and the selection criteria the Secretary uses to evaluate applications.

Page Limit: The application narrative (Part III of the application) is where you, the applicant, address the selection criteria that reviewers use to evaluate your application. You must limit Part III to the equivalent of no more than 30 pages using the following standards:

• A “page” is 8.5″ × 11″, on one side only, with 1″ margins at the top, bottom, and both sides.

• Double space (no more than three lines per vertical inch) all text in the application narrative, including titles, headings, footnotes, quotations, references, and captions, as well as all text in charts, tables, figures, and graphs.

• Use a font that is either 12-point or larger or no smaller than 10 pitch (characters per inch).

The page limit does not apply to Part I, the cover sheet; Part II, the budget section, including the narrative budget justification; Part IV, the assurances and certifications; or the one-page abstract, the resumes, the bibliography, or the letters of support. However, you must include all of the application narrative in Part III.

We will reject your application if—

• You apply these standards and exceed the page limit; or

• You apply other standards and exceed the equivalent of the page limit.

1. Begin with a one-page Abstract summarizing the proposed community technology center project, including a short description of the population to be served by the project, project objectives, and planned project activities;

2. Include a table of contents listing the parts of the narrative in the order of the selection criteria and the page numbers where the parts of the narrative are found. Be sure to number the pages.

3. Describe how the applicant meets the invitational priority(ies), if applicable.

4. Describe fully the proposed project in light of the selection criteria in the order in which the criteria are listed in the application package. Do not simply paraphrase the criteria.

5. In the application budget, include a description of the non-federal contributions that the applicant will contribute to the project in amounts not less than the non-federal contribution as required in this notice. Budget line items must support the goals and objectives of the proposed project.

6. Provide the following in response to the attached “Notice to all Applicants”: (1) a reference to the portion of the application in which information appears as to how the applicant is addressing steps to promote equitable access and participation, or (2) a separate statement that contains that information.

7. When applying for funds as a consortium, individual eligible applicants must enter into an agreement signed by all members. The consortium's agreement must detail the activities each member of the consortium plans to perform, and must bind each member to every statement and assurance made in the consortium's application. The designated applicant must submit the consortium's agreement with its application.

8. Attach copies of all required assurances and forms.

Estimated Public Reporting Burden

According to the Paperwork Reduction Act of 1995, no persons are required to respond to a collection of information unless it displays a valid OMB Control Number. The valid OMB control number for this information collection is 1830-0539 (Expiration Date: 04/30/2002). The time required to complete this information collection is estimated to average 40 hours per response, including the time to review instructions, search existing data resources, gather the data needed, and complete and review the information collection.

If you have any comments concerning the accuracy of the time estimate or suggestions for improving this form, please write to: Mary LeGwin or April Blunt, Community Technology Centers Program, U.S. Department of Education, Washington, DC 20202-4651.

If you have comments or concerns regarding the status of your individual submission of this form, write directly to: Community Technology Centers Program, Division of Adult Education and Literacy, Office of Vocational and Adult Education, U.S. Department of Education, 400 Maryland Avenue, SW., Washington, DC 20202-7240.

Checklist for Applicants

The following forms and other items must be included in the application in the order listed below:

1. Application for Federal Assistance (ED 424).

2. Budget Information—Non-construction Programs (ED Form No. 524).

3. Application Narrative, including information that addresses section 427 of the General Education Provisions Act. (See the section entitled “NOTICE TO ALL APPLICANTS”).

4. Assurances—Non-Construction Programs (SF 242B).

5. Certifications Regarding Lobbying; Debarment, Suspension, and Other Responsibility Matters; and Drug-Free Workplace Requirements (ED 80-0013).

6. Disclosure of Lobbying Activities (Standard Form LLL)

7. Consortium agreement, if applicable.

BILLING CODE 4000-01-U

[FR Doc. 01-13550 Filed 5-29-01; 8:45 am]

BILLING CODE 4000-01-C